DEPARTMENT OF THE INTERIOR

Fish and Wildlife Service

[FWS-HQ-ES-2014-N058; FF09E15000-FXHC112509CBRA1-145]

John H. Chafee Coastal Barrier Resources System; Availability of Draft Maps for Maine, Maryland, New Jersey, New York, North Carolina, and Virginia; Request for Comments

AGENCY: Fish and Wildlife Service, Interior.

ACTION: Notice of availability; request for comments.

SUMMARY: The Coastal Barrier Resources Act (CBRA) requires the Secretary of the Interior (Secretary) to review the maps of the John H. Chafee Coastal Barrier Resources System (CBRS) at least once every 5 years and make any minor and technical modifications to the boundaries of the CBRS as are necessary to reflect changes that have occurred in the size or location of any CBRS unit as a result of natural forces. The U.S. Fish and Wildlife Service (Service) has conducted this review and has prepared draft revised maps for all of the CBRS units in Maine, all units in Maryland, all units in New Jersey, all units in North Carolina, all units in Virginia, and one unit in New York. The draft maps were produced by the Service in partnership with the Federal Emergency Management Agency (FEMA). This notice announces the findings of the Service's review and request for comments on the draft revised maps from Federal, State, and local officials.

DATES: To ensure consideration, the Service must receive written comments by July 10, 2014.

ADDRESSES: Mail comments to Katie Niemi, Coastal Barriers Coordinator, Division of Budget and Technical Support, U.S. Fish and Wildlife Service, 4401 N. Fairfax Drive, Room 840, Arlington, VA 22203, or send comments by electronic mail (email) to CBRAcomments@fws.gov.

FOR FURTHER INFORMATION CONTACT: Katie Niemi, Coastal Barriers Coordinator; (703) 358-2071 (telephone); or CBRA@fws.gov (email).

SUPPLEMENTARY INFORMATION:

Background

Background information on the CBRA (16 U.S.C. 3501 et seq.) and the CBRS, as well as information on the digital conversion effort and the methodology used to produce the revised maps, can be found in a notice the Service published in the Federal Register on August 29, 2013 (78 FR 53467).

For information on how to access the draft revised maps, see the Availability of Draft Maps and Related Information section below.

Proposed Modifications to the CBRS Boundaries

This notice fulfills a requirement under the CBRA (16 U.S.C. 3503(f)(3)) that requires the Secretary to publish a notice in the Federal Register of any proposed revisions to the CBRS to reflect: (1) Changes that have occurred to the CBRS as a result of natural forces (e.g., erosion and accretion); (2) voluntary additions to the CBRS requested by property owners; or (3) additions of excess Federal property to the CBRS (as authorized under 16 U.S.C. 3503(c)-(e)).

The Service's review of all CBRS units in Maine, all units in Maryland, all units in New Jersey, all units in North Carolina, all units in Virginia, and one unit in New York resulted in a set of 121 draft revised maps, dated September 30, 2013, depicting a total of 185 CBRS units. The set of maps includes 19 maps for 34 CBRS units located in Maine; 23 maps for 49 CBRS units located in Maryland; 16 maps for 21 CBRS units located in New Jersey; 29 maps for 16 CBRS units located in North Carolina; 32 maps for 64 CBRS units located in Virginia; and 2 maps for 1 CBRS unit located in both Kings and Queens Counties, New York. The Service's review of these areas found a total of 141 CBRS units that require modifications due to natural changes in the size or location of the units since they were last mapped. The Service's review of these areas also found three CBRS units that require modifications to correct administrative errors that were made in the past, on maps for Washington County, Maine; Cumberland County, Maine; and Northampton County, Virginia.

Following the close of the comment period on the date listed in the DATES section of this document, the Service will review all comments received from Federal, State, and local officials on the draft maps; make adjustments to the draft maps, as appropriate; and publish a notice in the Federal Register to announce the availability of the final revised maps.

Below is a summary of the changes depicted on the draft revised maps.

Maine

The Service's review found 22 of the 34 of the CBRS units in Maine to have changed due to natural forces. Additionally, the Service's review found that two of these units in Maine, A03C and A07, contained administrative errors that were made by the Service in 1990.

A01: LUBEC BARRIERS UNIT. The landward boundary of the unit has been modified to reflect natural changes that have occurred in the configuration of the wetland/fastland interface and shoreline.

A03: JASPER UNIT. The landward boundary of the unit has been modified to reflect natural changes that have occurred in the configuration of the wetland/fastland interface.

A03B: STARBOARD UNIT. The landward boundary of the unit has been modified to reflect natural changes that have occurred in the configuration of the wetland/fastland interface.

A03C: POPPLESTONE BEACH/ROQUE ISLAND UNIT. The landward boundary of the Popplestone Beach segment of the unit has been modified to correct an administrative error in the transcription of the boundary from the draft map that was reviewed and approved by Congress to the official map dated October 24, 1990, for this unit. The area in question was first added to the CBRS at the request of the State of Maine on April 18, 1983, through the minor and technical boundary modification process authorized by Section 4(c) of the CBRA (Pub. L. 97-348). This same area, which had been in the CBRS since 1983, was misidentified as an “addition” to the CBRS in the Service's 1988 Report to Congress: Volume 2, Maine. This correction is supported by an assessment of the historical maps and aerial imagery for this area, as well as by the legislative history of the Coastal Barrier Improvement Act (CBIA; Pub. L. 101-591). Additionally, the landward boundaries of the Great Bar, Popplestone Beach, and Rogue Island Harbor segments of the unit have been modified to reflect natural changes that have occurred in the configuration of the wetland/fastland interface.

A05B: HEAD BEACH UNIT. The southeastern boundary of the unit has been modified to include the entire frontal dune within the unit.

A06: CAPE ELIZABETH UNIT. The landward boundary of the eastern segment of the unit has been modified to account for natural change in the shoreline of the pond within the unit.

A07: SCARBOROUGH BEACH UNIT. The southern landward portion of the boundary has been modified to correct an administrative error in the transcription of the boundary from the draft map that was reviewed and approved by Congress to the official map dated October 24, 1990, for this unit. This correction is supported by an assessment of the historical maps and aerial imagery for this area, as well as by the legislative history of the CBIA (Pub. L. 101-591).

A08: CRESCENT SURF UNIT. The landward boundary of the unit has been modified to reflect natural changes that have occurred in the configuration of the wetland/fastland interface.

A09: SEAPOINT UNIT. The landward boundary of the unit has been modified to reflect natural changes that have occurred in the configuration of the wetland/fastland interface.

ME-04: SEAL COVE UNIT. The landward boundary of the unit has been modified to reflect natural changes that have occurred in the configuration of the wetland/fastland interface and shoreline.

ME-07P: ROQUE BLUFFS UNIT. The landward boundary of the unit has been modified to reflect natural changes that have occurred in the configuration of the wetland/fastland interface.

ME-09P: PETIT MANAN/BOIS BUBERT UNIT. The boundary has been modified in the northern segment of the unit to reflect natural changes that have occurred in the configuration of the wetland/fastland interface.

ME-10P: OVER POINT UNIT. The boundary of the unit has been modified to reflect natural changes that have occurred in the configuration of the wetland/fastland interface.

ME-11: POND ISLAND UNIT. A segment of boundary has been added to the southeastern portion of the unit to clarify the extent of the unit, which includes portions of Pond Island but not Hog Island. As a result, a segment of boundary has been removed from the southwestern side of the unit to keep one side of the unit open to East Penobscot Bay.

ME-12: THRUMCAP UNIT. The landward boundary of the unit has been modified to reflect natural changes that have occurred in the configuration of the wetland/fastland interface.

ME-14: NASH POINT UNIT. The landward boundary of the unit has been modified to reflect natural changes that have occurred in the configuration of the wetland/fastland interface.

ME-15P: LITTLE RIVER UNIT. The landward boundary of the unit has been modified to reflect natural changes that have occurred in the configuration of the wetland/fastland interface.

ME-16: HUNNEWELL BEACH UNIT. The landward boundary of the unit has been modified to reflect natural changes that have occurred in the configuration of the wetland/fastland interface.

ME-17: SMALL POINT BEACH UNIT. The landward boundary of the unit has been modified to reflect natural changes that have occurred in the configuration of the wetland/fastland interface. The boundary has also been modified to account for natural changes in the location of the barrier in the area of Small Point Beach.

ME-18: STOVER POINT UNIT. The landward boundary of the unit has been modified to reflect natural changes that have occurred in the configuration of the wetland/fastland interface.

ME-20P: OGUNQUIT BEACH UNIT. The landward boundary of the unit has been modified to reflect natural changes that have occurred in the configuration of the wetland/fastland interface.

ME-23: PHILLIPS COVE UNIT. The landward boundary of the unit has been modified to reflect natural changes that have occurred in the configuration of the wetland/fastland interface.

Maryland

The Service's review found 29 of the 49 CBRS units in Maryland to have changed due to natural forces.

MD-01P: ASSATEAGUE ISLAND UNIT. The landward boundary of the unit has been modified to account for the migration of sand outside of the unit in Sinepuxent Bay.

MD-03: SOUND SHORE UNIT. The landward boundary of the unit has been modified to reflect natural changes that have occurred in the configuration of the marsh and wetland/fastland interface.

MD-06: JOES COVE UNIT. The landward boundary of the unit has been modified to reflect natural changes that have occurred in the configuration of the marsh and wetland/fastland interface. The southern boundary has been modified to account for channel migration along Joes Gut.

MD-09P: ST. PIERRE POINT UNIT. The landward boundary of the unit has been modified to account for the channel migration along an unnamed channel. The southern boundary of the unit has been modified to include the entire barrier feature, which has expanded to the south. The northern boundary of the unit has been modified to include the entire barrier feature, which has expanded to the east.

MD-12: DEAL ISLAND UNIT. The landward boundary of the unit has been modified to reflect natural changes that have occurred in the configuration of the marsh and wetland/fastland interface.

MD-14: FRANKS ISLAND UNIT. The landward boundary of the unit has been modified to reflect natural changes that have occurred in the configuration of the marsh and wetland/fastland interface. The boundary has also been modified to account for channel migration and erosion along Rock Creek.

MD-15: LONG POINT UNIT. The landward boundary of the unit has been modified to reflect natural changes that have occurred in the configuration of the marsh and wetland/fastland interface. The southern boundary has been modified to include the entirety of an accreting barrier spit located south of Long Point and its associated aquatic habitat within the unit.

MD-16: STUMP POINT UNIT. The landward boundary of the unit has been modified to reflect natural changes that have occurred in the configuration of the marsh and wetland/fastland interface. The boundary has also been modified to account for channel migration and erosion along Stacey Gut.

MD-20: JENNY ISLAND UNIT. The landward boundary of the unit has been modified to reflect natural changes that have occurred in the configuration of the marsh and wetland/fastland interface.

MD-18P: MARSH ISLAND UNIT. The northern landward boundary of the unit has been modified slightly to account for erosion and channel migration along Little Pungers Creek.

MD-37P: FLAG PONDS UNIT. The landward boundary of the unit has been modified to reflect natural changes that have occurred in the configuration of the marsh and wetland/fastland interface. The southern boundary has been modified to include the entirety of an accreting barrier spit and its associated aquatic habitat within the unit.

MD-38: COVE POINT MARSH UNIT. The landward boundary of the unit has been modified to reflect natural changes that have occurred in the configuration of the marsh and wetland/fastland interface.

MD-24: COVEY CREEK UNIT. The landward boundary of the unit has been modified to reflect natural changes that have occurred in the configuration of the marsh and wetland/fastland interface. The northern boundary has been moved further north to account for shoreline erosion within the unit.

MD-26: BOONE CREEK UNIT. The landward boundary of the unit has been modified to reflect natural changes that have occurred in the configuration of the wetland/fastland interface and to account for shoreline erosion.

MD-27: BENONI POINT UNIT. The landward boundary of the unit has been modified to reflect natural changes that have occurred in the configuration of the wetland/fastland interface and to account for shoreline erosion.

MD-30: KENT POINT UNIT. The landward boundary of the unit has been modified to reflect natural changes that have occurred in the configuration of the marsh and wetland/fastland interface.

MD-32: STEVENSVILLE UNIT. The landward and northern boundaries of the unit have been modified to reflect natural changes that have occurred in the configuration of the wetland/fastland interface.

MD-33: WESLEY CHURCH UNIT. The landward boundary of the unit has been modified to reflect natural changes that have occurred in the configuration of the wetland/fastland interface.

MD-35: WILSON POND UNIT. The landward boundary of the unit has been modified to reflect natural changes that have occurred in the configuration of the marsh and wetland/fastland interface.

MD-41: GREEN HOLLY POND UNIT. The landward boundary of the unit has been modified to reflect natural changes that have occurred in the configuration of the wetland/fastland interface.

MD-44: ST. CLARENCE CREEK UNIT. The landward boundary of the unit has been modified to reflect natural changes that have occurred in the configuration of the wetland/fastland interface and shoreline erosion.

MD-45: DEEP POINT UNIT. The landward boundary of the unit has been modified to reflect natural changes that have occurred in the configuration of the wetland/fastland interface. The boundary has also been modified slightly to include the entirety of an accreting sand spit within the unit.

MD-46: POINT LOOK-IN UNIT. The landward boundary of the unit has been modified to reflect natural changes that have occurred in the configuration of the wetland/fastland interface.

MD-47: TANNER CREEK UNIT. The landward boundary of the unit has been modified to reflect natural changes that have occurred in the configuration of the marsh and wetland/fastland interface.

MD-48P: POINT LOOKOUT UNIT. The landward boundary of the unit has been modified to reflect natural changes that have occurred in the configuration of the marsh and wetland/fastland interface.

MD-49: BISCO CREEK UNIT. The landward boundary of the unit has been modified to reflect natural changes that have occurred in the configuration of the marsh and wetland/fastland interface.

MD-53: BLAKE CREEK UNIT. The landward boundary of the unit has been modified to reflect natural changes that have occurred in the configuration of the wetland/fastland interface.

MD-54: BELVEDERE CREEK UNIT. The landward boundary of the unit has been modified to reflect natural changes that have occurred in the configuration of the wetland/fastland interface.

MD-56: ST. CATHERINE ISLAND UNIT. The boundary of the unit has been modified to include an accreting sand spit on the eastern side of St. Catherine Island.

New Jersey

The Service's review found 19 of the 21 CBRS units in New Jersey to have changed due to natural forces.

NJ-02: SEIDLER BEACH UNIT. The landward boundary of the unit has been modified to reflect natural changes that have occurred in the configuration of the wetland/fastland interface.

NJ-03P: CLIFFWOD BEACH UNIT. The landward boundary of the unit has been modified to reflect natural changes in the wetland/fastland interface and along the banks of Whale Creek and Treasure Lake. The western boundary of the unit has been modified to account for the accretion of the sand spit at the western end of Cliffwood Beach.

NJ-04: CONASKONK POINT UNIT. The landward boundary of the unit has been modified to reflect natural changes to the wetland/fastland interface and the southernmost edge of Chingarora Creek.

NJ-04A: NAVESINK/SHREWSBURY COMPLEX UNIT. The boundary of the northern segment of the unit has been modified to include more of the sand sharing system in the Navesink River to the north, northwest, and northeast of Barley Point. The boundary of the northern segment of the unit has been modified to the south and southeast of Barley Point to reflect the current location of the channels that the boundary follows. The eastern boundary of the southern segment of the unit has been modified slightly to fully include all of the islands behind the barrier within the unit.

NJ-04B: METEDECONK NECK UNIT. The boundary of the northern segment of the unit has been modified to reflect natural changes that have occurred along the shoreline of Herring Island and in the configuration of the wetland/fastland interface. The boundary of the southern segment of the unit has been modified to reflect natural changes in the shoreline along Metedeconk Neck and along minor channels.

NJ-04BP: METEDECONK NECK UNIT. The boundary of the northern segment of the unit has been modified to reflect natural changes that have occurred along the shoreline of Herring Island. The boundary of the southern segment of the unit has been modified to reflect natural changes along the shoreline along Metedeconk Neck.

NJ-05P: ISLAND BEACH UNIT. The boundary of the southern portion of the unit has been modified to include the entirety of an unnamed island in Barnegat Bay which is already partially within the unit.

NJ-06: CEDAR BONNET ISLAND UNIT. A portion of the northern boundary of the unit has been modified to reflect natural changes that have occurred in the configuration of the wetland/fastland interface. The boundary coincident with a segment of Unit NJ-06P has been modified to reflect natural changes along the shoreline of an unnamed channel. The boundary has been modified to follow the center of an unnamed channel running between Units NJ-06 and NJ-06P.

NJ-06P: CEDAR BONNET ISLAND UNIT. The boundaries of three of the four discrete segments of the unit in Little Egg Harbor have been modified to reflect natural changes that occurred along the shorelines of the islands. The boundary coincident with a segment of Unit NJ-06 has been modified to reflect natural changes along the shoreline of an unnamed channel.

NJ-07P: BRIGANTINE UNIT. The boundary of the unit has been modified to account for channel migration and erosion along several channels. The boundary, primarily in the northern part of the unit, has been modified to reflect natural changes that have occurred in the configuration of the wetland/fastland interface and the shoreline.

NJ-08P: CORSON INLET UNIT. The boundary of the unit has been modified to account for channel migration and erosion along a tributary to Corson Sound, Ben Hands Thorofare, Crook Horn Creek, and Weakfish Creek.

NJ-09: STONE HARBOR UNIT. The boundary of the unit has been modified to reflect natural changes that have occurred in the configuration of the wetland/fastland interface on the northwestern side of the unit and along Slab Creek and Nichols Channel. The coincident boundary between Units NJ-09 and NJ-09P has been modified to account for channel migration along Gravelly Run, Great Flat Thorofare, Hammock Creek, and Jenkins Channel. The coincident boundary between Units NJ-09 and NJ-09P has been modified to account for natural changes along the southeastern shoreline of Nummy Island.

NJ-09P: STONE HARBOR UNIT. The boundary of the unit has been modified to account for channel migration along Dung Thorofare. The coincident boundary between Units NJ-09 and NJ-09P has been modified to account for channel migration along Gravelly Run, Great Flat Thorofare, Hammock Creek, and Jenkins Channel. The coincident boundary between Units NJ-09 and NJ-09P has been modified to account for natural changes along the southeastern shoreline of Nummy Island.

NJ-11P: HIGBEE BEACH UNIT. A portion of the southern boundary of the unit has been modified to reflect natural changes that have occurred in the configuration of the wetland/fastland interface.

NJ-12: DEL HAVEN UNIT. The landward boundary of the unit has been modified to reflect natural changes that have occurred in the configuration of the wetland/fastland interface. The coincident boundary between Units NJ-12 and NJ-12P has been modified to account for shoreline erosion along Delaware Bay.

NJ-12P: DEL HAVEN UNIT. The coincident boundary between Units NJ-12 and NJ-12P has been modified to account for shoreline erosion along Delaware Bay.

NJ-13: KIMBLES BEACH UNIT. The boundary of the unit has been modified to reflect natural changes that have occurred in the configuration of the wetland/fastland interface. A small portion of the boundary that follows the shoreline of Delaware Bay at Kimbles Beach has been modified to account for erosion.

NJ-14: MOORES BEACH UNIT. The boundary of the unit has been modified to reflect natural changes that have occurred in the configuration of the wetland/fastland interface. The coincident boundary between Units NJ-14 and NJ-14P has been modified to account for channel migration along East Creek, West Creek, and several unnamed channels.

NJ-14P: MOORES BEACH UNIT. The boundary of the unit has been modified to reflect natural changes that have occurred in the configuration of the wetland/fastland interface. The boundary has been modified to account for channel migration along Bidwell Creek, Dennis Creek, Riggins Ditch, Sluice Creek, and several unnamed channels. The coincident boundary between Units NJ-14 and NJ-14P has been modified to account for channel migration along East Creek, West Creek, and several unnamed channels.

New York

The Service's review found that Unit NY-60P (the only CBRS unit in New York that was part of this review) had changed due to natural forces. Other CBRS units in the State of New York were not assessed as part of this review.

NY-60P: JAMAICA BAY. The boundary of the unit has been modified to reflect changes in the configuration of the wetland/fastland interface and the shoreline in Jamaica Bay.

North Carolina

The Service's review found 15 of the 16 CBRS units in North Carolina to have changed due to natural forces. This review did not include the North Carolina portion of Unit M01 in Brunswick County because that unit crosses the State boundary into South Carolina and was included in its entirety with the draft maps for all CBRS units in South Carolina that were remapped and referenced in a notice the Service published in the Federal Register on August 29, 2013 (78 FR 53467).

L01: CURRITUCK BANKS UNIT. The landward boundary of the unit on Knotts Island Bay has been modified to reflect natural changes that have occurred in the configuration of the wetland/fastland interface and the shoreline. The coincident boundary with the northern segment of Unit L01P has been modified to reflect natural changes that have occurred in the configuration of the wetland/fastland interface on Currituck Sound, and modified to follow the center of the channel in Old Currituck Inlet.

L01P: CURRITUCK BANKS UNIT. The landward boundary of the northern segment of L01P has been modified to reflect natural changes that have occurred in the configuration of the wetland/fastland interface on Currituck Sound, and modified to follow the center of the channel in Old Currituck Inlet.

NC-01: PINE ISLAND BAY UNIT. The landward boundary of the unit along the shoreline of the excluded area has been modified slightly to better follow the shoreline as depicted on the new CBRS base map.

NC-02: NAGS HEAD WOODS UNIT. The landward boundary along the portion of the northern segment of the unit that follows the edge of the marsh has been modified to better follow the edge of the marsh as depicted on the new CBRS base map.

NC-03P: CAPE HATTERAS UNIT. Portions of the landward boundary of the unit have been modified to account for shoreline erosion. The boundary of the unit has been modified to account for accretion at the southern end of Ocracoke Island. The western boundary of the unit, where it is coincident with Unit L03AP, has intentionally not been modified. This area continues to change, and there are CBRS units on both sides of the boundary, so a modification in this area would have no effect.

L03AP: SHACKLEFORD BANKS UNIT. The western boundary of the unit along Beaufort Inlet has been expanded westward into the inlet. The original boundary of the unit has been generally located along the shoreline of Shackleford Banks within the inlet, but the island and the inlet continue to change. The boundary has been modified and generalized to account for existing conditions and the potential for future change. The eastern boundary of the unit, which is coincident with Unit NC-03P, has intentionally not been modified. This area continues to change, and there are Otherwise Protected Areas of the CBRS on both sides of the boundary, so a modification in this area would have no effect.

NC-04P: FORT MACON UNIT. The northern boundary of the excluded area of the unit surrounding United States Coast Guard Station Fort Macon has been modified to account for erosion along the shoreline.

NC-05P: ROOSEVELT NATURAL AREA UNIT. The northern boundary of the unit along Bogue Sound has been modified to account for erosion.

NC-06P: HAMMOCKS BEACH UNIT. The northern boundary of the unit has been modified to reflect natural changes that have occurred to Bear Island and Bogue Inlet. A portion of the southern boundary of the unit has been modified to reflect the current location of Sanders Creek. The location of the shoals in Bear Inlet has been dynamic, and so has the location of the Bear Inlet channel. Additionally, the southern boundary of the unit is coincident with Unit L05. The boundary in this area has been simply generalized, and the current geomorphic features of the inlet were not used to determine the placement of the boundary.

L05: ONSLOW BEACH COMPLEX UNIT. The southern boundary of the southern segment of the unit has been modified to follow what is now the center of New River Inlet up the New River channel. The boundary of the unit has also been modified due to channel migration along Wards Channel through to its junction with New River. In the northern segment of the unit, the northern boundary has been modified to follow the center of Shacklefoot Channel and Sanders Creek through to its junction with Bear Inlet. The location of the shoals in Bear Inlet has been dynamic, and so has the location of the Bear Inlet channel. Additionally, the northern boundary of the unit is coincident with Unit NC-06P. The boundary in this area has been simply generalized, and the current geomorphic features of the inlet were not used to determine the placement of the boundary.

L06: TOPSAIL UNIT. The landward boundary of the unit has been modified to reflect natural changes that have occurred in the configuration of the marsh, wetland/fastland interface, and the location of New River Inlet. Due to the dynamic nature of the New River Inlet and the adjacent barrier island to the northeast of the unit, the boundary through the inlet has been modified and generalized to account for existing conditions and the potential for future change.

L07: LEA ISLAND COMPLEX UNIT. The landward boundary of the unit has been modified to reflect natural changes that have occurred in the configuration of the marsh, wetland/fastland interface, and Nixon Channel.

L08: WRIGHTSVILLE BEACH UNIT. The landward boundary of the unit has been modified to reflect natural changes that have occurred in the configuration of the marsh and the wetland/fastland interface.

L09: MASONBORO ISLAND UNIT. The landward boundary of the unit has been modified to reflect natural changes that have occurred in the configuration of the marsh, wetland/fastland interface, and the shoreline along the landward side of the unit.

NC-07P: CAPE FEAR UNIT. The landward boundary of the unit has been modified to reflect natural changes that have occurred in the configuration of the marsh, wetland/fastland interface, and the shoreline along Bald Head Creek, Cape Creek, and the Cape Fear River and its associated aquatic habitat.

Virginia

The Service's review found 55 of the 64 CBRS units in Virginia to have changed due to natural forces. Additionally, the Service's review found that one unit in Virginia, VA-09, contained an administrative error that was made by the Service in 1997.

VA-01P: ASSATEAGUE ISLAND UNIT. The southern boundary of the unit has been modified to account for accretion at the southern end of Assateague Island.

VA-02P: ASSAWOMAN ISLAND UNIT. The landward boundary of the unit has been modified to reflect natural changes that have occurred in the configuration of the wetland/fastland interface. The boundary on the southern side of the unit has been modified to reflect natural changes along Shipping Creek and Wire Passage. The northern boundary of the unit has been modified to account for natural changes along Assawoman Creek. The northern boundary formerly ran through Assawoman Inlet, which has since closed, and now runs from Assawoman Creek across Assawoman Island to the Atlantic Ocean.

VA-03P: METOMPKIN ISLAND UNIT. The northern boundary of the unit has been modified to account for channel migration along Wire Passage. The landward boundary of the unit has been modified to reflect the westward migration of Metompkin Island. The coincident boundary between Units VA-03P and K03 has been modified to follow the current location of Metompkin Inlet and to account for accretion at the northern end of Cedar Island. The name of this unit has been changed from “Metomkin Island” to “Metompkin Island” to correctly identify the underlying barrier feature.

K03: CEDAR ISLAND UNIT. The coincident boundary between Units VA-03P and K03 has been modified to follow the current location of Metompkin Inlet and to account for accretion at the northern end of Cedar Island. The landward boundary of the unit has been modified to reflect natural changes that have occurred in the configuration of the wetland/fastland interface. The coincident boundary between Units K03 and VA-04P has been modified to follow the current location of Wachapreague Inlet and to account for accretion at the southern end of Cedar Island.

VA-04P: PARRAMORE/HOG/COBB ISLANDS UNIT. The coincident boundary between Units VA-04P and K04 has been modified to reflect the migration of Long Channel, Little Cobb Island, and the southern end of Cobb Island.

K04: LITTLE COBB ISLAND UNIT. The coincident boundary between Units VA-04P and K04 has been modified to reflect the migration of Long Channel, Little Cobb Island, and the southern end of Cobb Island. The coincident boundary between Units K04 and VA-05P has been moved southward to reflect natural changes in Sand Shoal Inlet and the barrier islands to the north and south of the inlet.

VA-05P: WRECK ISLAND UNIT. The coincident boundary between Units K04 and VA-05P has been moved southward to reflect natural changes in Sand Shoal Inlet and the barrier islands to the north and south of the inlet. The landward boundary of the unit has been modified to reflect natural changes that have occurred in the configuration of the wetland/fastland interface. The coincident boundary between Units VA-05P and VA-06P has been modified to reflect channel migration along Main Ship Shoal Channel.

VA-06P: SMITH ISLAND UNIT. The coincident boundary between Units VA-05P and VA-06P has been modified to reflect channel migration along Main Ship Shoal Channel.

K05, K05P: FISHERMAN'S ISLAND UNIT. The coincident boundary between Units K05 and K05P has been modified to reflect channel migration along two minor unnamed channels and to account for natural changes in the wetland/fastland interface.

VA-09: ELLIOTS CREEK UNIT. The landward boundary of the unit has been modified to reflect natural changes that have occurred in the configuration of the wetland/fastland interface. Additionally, the southern boundary of the unit has been modified to correct an administrative error that was made by the Service in 1997 when this unit was last modified to account for natural changes under 16 U.S.C. 3503(c). In 1996, Northampton County, Virginia, submitted a letter to the Service which objected to the Service's proposed addition of part of a subdivision known as Sugar Hill located near Elliott's Creek. The County's letter indicated that the subdivision was already being developed and did not qualify for addition to the CBRS under 16 U.S.C. 3503(c), as there had been no natural changes that warranted the proposed addition. The Service's background records indicate that the Service re-examined the area in 1996 and agreed that the area in question should not be included within the CBRS. However, when the Service adopted the final set of revised maps via a notice in the Federal Register on February 24, 1997 (62 FR 8258), the map that proposed to add the area in question to the CBRS was adopted in error. This correction is supported by an assessment of the historical maps and aerial imagery for this area and the Service's background records for Unit VA-09.

VA-10: OLD PLANTATION CREEK UNIT. The landward boundary of the unit has been modified to reflect natural changes that have occurred in the configuration of the wetland/fastland interface.

VA-11: WESTCOAT POINT UNIT. The boundary of the unit in Cherrystone Inlet has been modified to account for the migration of sand outside the unit at Westcoat Point.

VA-12: GREAT NECK UNIT. The boundary of the unit has been modified to reflect natural changes that have occurred in the configuration of the wetland/fastland interface.

VA-13: WESTERHOUSE CREEK UNIT. The boundary of the unit has been modified to reflect natural changes that have occurred in the configuration of the wetland/fastland interface.

VA-14: SHOOTING POINT UNIT. The boundary of the unit has been modified to reflect natural changes that have occurred in the configuration of the wetland/fastland interface.

VA-16: SCARBOROUGH NECK UNIT. The boundary of the unit has been modified to reflect natural changes that have occurred in the configuration of the wetland/fastland interface.

VA-17: CRADDOCK NECT UNIT. The boundary of the unit has been modified to reflect natural changes that have occurred in the configuration of the wetland/fastland interface.

VA-18: HACKS NECK UNIT. The boundary of the unit has been modified to reflect natural changes that have occurred in the configuration of the wetland/fastland interface.

VA-21: BEACH ISLAND UNIT. The northeastern boundary of the unit has been modified to reflect the eastward migration of Beach Island.

VA-23: SIMPSON BEND UNIT. The boundary of the unit has been modified to reflect channel migration along Cedar Cove Gut.

VA-24: DRUM BAY UNIT. The boundary of the unit has been modified to reflect channel migration along Starling Creek and Fishing Creek.

VA-26: CHEESEMAN ISLAND UNIT. The boundary of the unit has been modified to reflect the eastward migration of Cheeseman Island and to include wetlands and aquatic habitat that are now associated with the barrier. The southern boundary of the unit has been modified to account for the migration of sand both eastward and southward.

VA-28: TANGIER ISLAND UNIT. The northwestern boundary of the unit has been modified to reflect channel migration along an unnamed channel and to account for the northwesterly expansion of the barrier feature at the southern end of Tangier Island.

VA-29: ELBOW POINT UNIT. The landward boundary of the unit has been modified to reflect natural changes that have occurred in the configuration of the wetland/fastland interface.

VA-30: WHITE POINT UNIT. The landward boundary of the unit has been modified to reflect natural changes that have occurred in the configuration of the wetland/fastland interface.

VA-31: CABIN POINT UNIT. The landward boundary of the unit has been modified to reflect natural changes that have occurred in the configuration of the wetland/fastland interface. The southern end of the unit has been modified to account for the southeasterly expansion of the barrier feature.

VA-32: GLEBE POINT UNIT. The landward boundary of the unit has been modified to reflect natural changes that have occurred in the configuration of the wetland/fastland interface.

VA-33: SANDY POINT UNIT. The landward boundary of the unit has been modified to reflect natural changes that have occurred in the configuration of the wetland/fastland interface.

VA-34: JUDITH SOUND UNIT. The landward boundary of the unit has been modified to reflect natural changes that have occurred in the configuration of the wetland/fastland interface.

VA-35: COD CREEK UNIT. The landward boundary of the unit has been modified to reflect natural changes that have occurred in the configuration of the wetland/fastland interface.

VA-36: PRESLEY CREEK UNIT. The landward boundary of the unit has been modified to reflect natural changes that have occurred in the configuration of the wetland/fastland interface.

VA-37: CORDREYS BEACH UNIT. The landward boundary of the unit has been modified to reflect natural changes that have occurred in the configuration of the wetland/fastland interface. The western boundary of the unit has been modified to account for the westward expansion of the barrier feature.

VA-38: MARSHALLS BEACH UNIT. The landward boundary of the unit has been modified to reflect natural changes that have occurred in the configuration of the wetland/fastland interface.

VA-39P: GINNY BEACH UNIT. The landward boundary of the unit has been modified to reflect natural changes that have occurred in the configuration of the wetland/fastland interface.

VA-40: GASKIN POND UNIT. The landward boundary of the unit has been modified to reflect natural changes that have occurred in the configuration of the wetland/fastland interface.

VA-41: OWENS POND UNIT. The landward boundary of the unit has been modified to reflect natural changes that have occurred in the configuration of the wetland/fastland interface.

VA-42: CHESAPEAKE BEACH UNIT. The landward boundary of the unit has been modified to reflect natural changes that have occurred in the configuration of the wetland/fastland interface.

VA-43: FLEET POINT UNIT. The landward boundary of the unit has been modified to reflect natural changes that have occurred in the configuration of the wetland/fastland interface.

VA-44: BUSSEL POINT UNIT. The landward boundary of the unit has been modified to reflect natural changes that have occurred in the configuration of the wetland/fastland interface.

VA-45: HARVEYS CREEK UNIT. The landward boundary of the unit has been modified to reflect natural changes that have occurred in the configuration of the wetland/fastland interface.

VA-46: INGRAM COVE UNIT. The landward boundary of the unit has been modified to reflect natural changes that have occurred in the configuration of the wetland/fastland interface.

VA-47: BLUFF POINT NECK UNIT. The landward boundary of the unit has been modified to reflect natural changes that have occurred in the configuration of the wetland/fastland interface. The southern boundary of the unit has been modified to account for erosion of the barrier feature.

VA-48: BARNES CREEK UNIT. The landward boundary of the unit has been modified to reflect natural changes that have occurred in the configuration of the wetland/fastland interface.

VA-49: NORTH POINT UNIT. The landward boundary of the unit has been modified to reflect natural changes that have occurred in the configuration of the wetland/fastland interface.

VA-50: WINDMILL POINT UNIT. The landward boundary of the unit has been modified to reflect natural changes that have occurred in the configuration of the wetland/fastland interface.

VA-51: DEEP HOLE POINT UNIT. The landward boundary of the unit has been modified to reflect shoreline erosion. The eastern boundary of the unit has been modified to account for the migration of sand outside the unit in Windmill Point Creek. The western boundary of the unit has been modified to reflect the westward migration of the barrier at Deep Hole Point and include wetlands and aquatic habitat that are now associated with the barrier.

VA-52: STURGEON CREEK UNIT. The landward boundary of the unit has been modified to reflect natural changes that have occurred in the configuration of the wetland/fastland interface.

VA-53: JACKSON CREEK UNIT. The landward boundary of the unit has been modified to reflect natural changes that have occurred in the configuration of the wetland/fastland interface.

VA-55: RIGBY ISLAND/BETHEL BEACH UNIT. The landward boundary of the unit has been modified to reflect natural changes that have occurred in the configuration of the wetland/fastland interface. The name of this unit has been changed from “Rigby Island/Bethal Beach” to “Rigby Island/Bethel Beach” to correctly identify the underlying barrier feature.

VA-56: NEW POINT COMFORT UNIT. The northern boundary of the unit has been modified to reflect natural changes that have occurred in the configuration of the wetland/fastland interface. The western boundary of the unit has been modified to account for migrating sand.

VA-57: WARE NECK UNIT. The landward boundary of the unit has been modified to reflect natural changes that have occurred in the configuration of the wetland/fastland interface.

VA-58: SEVERN RIVER UNIT. The landward boundary of the unit has been modified to reflect natural changes that have occurred in the configuration of the wetland/fastland interface.

VA-59P: PLUM TREE ISLAND UNIT. The landward boundary of the unit has been modified to reflect natural changes that have occurred in the configuration of the wetland/fastland interface.

VA-60P: LONG CREEK UNIT. The landward boundary of the unit has been modified to reflect natural changes that have occurred in the configuration of the wetland/fastland interface. The boundary has been modified to reflect channel migration along Grunland Creek.

Request for Comments

The CBRA requires consultation with the appropriate Federal, State, and local officials on the proposed CBRS boundary modifications to reflect changes that have occurred in the size or location of any CBRS unit as a result of natural forces (16 U.S.C. 3503(c)). We invite interested Federal, State, and local officials to review and comment on the draft maps for Maine, Maryland, New Jersey, North Carolina, Virginia, and one unit in New York. The Service is specifically notifying the following stakeholders concerning the availability of the draft maps and opportunity to provide comments on the proposed boundary modifications: The Chair and Ranking Member of the House of Representatives Committee on Natural Resources; the Chair and Ranking Member of the Senate Committee on Environment and Public Works; the members of the Senate and House of Representatives for the affected areas; the Governors of the affected areas; and other appropriate Federal, State, and local officials.

Federal, State, and local officials may submit written comments and accompanying data to the individual and location identified in the ADDRESSES section above. We will also accept digital Geographic Information System (GIS) data files that are accompanied by written comments. Comments regarding specific units should reference the appropriate CBRS unit number and unit name. Please note that boundary modifications through this process can only be made to reflect changes that have occurred in the size or location of any CBRS unit as a result of natural forces, voluntary additions to the CBRS, or additions of excess Federal property to the CBRS (as authorized under 16 U.S.C. 3503(c)-(e)); other requests for changes to the CBRS will not be considered at this time. We must receive comments on or before the date listed in the DATES section of this document.

Availability of Draft Maps and Related Information

The draft maps and digital boundary data can be accessed and downloaded from the Service's Web site: http://www.fws.gov/CBRA. The digital boundary data are available for reference purposes only. The digital boundaries are best viewed using the base imagery to which the boundaries were drawn; this information is printed in the title block of the draft maps. The Service is not responsible for any misuse or misinterpretation of the digital boundary data.

Interested parties may also contact the Service individual identified in the FOR FURTHER INFORMATION CONTACT section above to make arrangements to view the draft maps at the Service's Headquarters office. Interested parties who are unable to access the draft maps via the Service's Web site or at the Service's Headquarters office may contact the Service individual identified in the FOR FURTHER INFORMATION CONTACT section above, and reasonable accommodations will be made to ensure the individual's ability to view the draft maps.

Public Availability of Comments

Before including your address, phone number, email address, or other personal identifying information in your comment, you should be aware that your entire comment—including your personal identifying information—may be made publicly available at any time. While you can ask us in your comment to withhold your personal identifying information from public review, we cannot guarantee that we will be able to do so.

Dated: May 23, 2014.
Gary Frazer,
Assistant Director for Ecological Services.

[FR Doc. 2014-13402 Filed 6-9-14; 8:45 am]

BILLING CODE 4310-55-P